DEPARTMENT OF THE INTERIOR

National Park Service

[N6809; NPS-WASO-NAGPRA-NPS0041630; PPWOCRADN0-PCU00RP14.R50000]

Notice of Inventory Completion: Tennessee Department of Environment and Conservation, Division of Archaeology, Nashville, TN

AGENCY: National Park Service, Interior.

ACTION: Notice.

SUMMARY: In accordance with the Native American Graves Protection and Repatriation Act (NAGPRA), the Tennessee Department of Environment and Conservation, Division of Archaeology (TDEC-DOA) has completed an inventory of human remains and associated funerary objects from Cocke, Knox, Monroe, and Roane Counties, TN, and has determined that there is a cultural affiliation between the human remains and associated funerary objects and Indian Tribes or Native Hawaiian organizations in this notice.

DATES: Repatriation of the human remains and associated funerary objects in this notice may occur on or after January 21, 2026.

ADDRESSES: Send written requests for repatriation of the human remains and associated funerary objects in this notice to Phillip R. Hodge, Tennessee Department of Environment and Conservation, Division of Archaeology (TDEC-DOA), 1216 Foster Avenue, Cole Building #3, Nashville, TN 37243, email Phil.Hodge@tn.gov.

SUPPLEMENTARY INFORMATION: This notice is published as part of the National Park Service's administrative responsibilities under NAGPRA. The determinations in this notice are the sole responsibility of the TDEC-DOA, and additional information on the determinations in this notice, including the results of consultation, can be found in its inventory or related records. The National Park Service is not responsible for the determinations in this notice.

Abstract of Information Available

Human remains representing, at least, 10 individuals have been identified. The four associated funerary objects (AFOs) are four lots of artifacts.

Unknown Site, Cocke County, TN

Human remains representing, at least, one individual. These ancestral remains were collected in the early twentieth century and donated to the University of Tennessee Forensic Center in Jan 2016. They were subsequently transferred to TDEC-DOA. No further information is available regarding the circumstances surrounding the acquisition of these remains. There is no known exposure to hazardous substances or treatments.

Unknown Site, Knox County, TN

Human remains representing, at least, two individuals. Remains of at least one individual were donated to the University of Tennessee-Knoxville in 2005. In 2017 they were turned over to the Knox County Forensic Center and subsequently donated to TDEC-DOA in 2021. One box containing additional ancestral remains is labeled as University of Tennessee Forensic Anthropology case #94-27, however no information exists regarding their transfer to TDEC-DOA. There is no known exposure to hazardous substances or treatments.

Unknown Site, Monroe County, TN

Human remains representing, at least, one individual. These remains were recovered by members of the public and seized by the Knox County Regional Forensic Center. They were later donated to TDEC-DOA in 2017. No additional information exists as to their collection or transfer. There is no known exposure to hazardous substances or treatments.

Site 40RE13, Roane County, TN

Human remains representing, at least, one individual and one associated funerary object. AFOs include one lot of freshwater shell. No information is available regarding the circumstances of recovery or donation. There is no known exposure to hazardous substances or treatments.

Site 40RE69, Roane County, TN

Human remains representing, at least, one individual and one associated funerary object. AFOs include one lot of unsorted material. No information is available regarding the circumstances of recovery or donation. There is no known exposure to hazardous substances or treatments.

Unknown Site, Roane County, TN

Human remains representing, at least, four individuals and two associated funerary objects. AFOs are two lots of artifacts including ceramic sherds. These remains were turned over to Fort Southwest Point Park staff when that park was owned by the city of Kingston, TN. They were transferred to TDEC-DOA for repatriation in 2025. There is no known exposure to hazardous substances or treatments.

Cultural Affiliation

Based on the information available and the results of consultation, cultural affiliation is reasonably identified by the geographical location or acquisition history of the human remains and associated funerary objects described in this notice.

Determinations

The TDEC-DOA has determined that:

• The human remains described in this notice represent the physical remains of at least 10 individuals of Native American ancestry.

• The four lots of artifacts described in this notice are reasonably believed to have been placed intentionally with or near individual human remains at the time of death or later as part of the death rite or ceremony.

• There is a connection between the human remains and associated funerary objects described in this notice and the Alabama-Coushatta Tribe of Texas; Cherokee Nation; Eastern Band of Cherokee Indians; The Muscogee (Creek) Nation; Thlopthlocco Tribal Town; and the United Keetoowah Band of Cherokee Indians in Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after January 21, 2026. If competing requests for repatriation are received, the TDEC-DOA must determine the most appropriate requestor prior to repatriation. Requests for joint repatriation of the human remains and associated funerary objects are considered a single request and not competing requests. The TDEC-DOA is responsible for sending a copy of this notice to the Indian Tribes and Native Hawaiian organizations identified in this notice.

Authority: Native American Graves Protection and Repatriation Act, 25 U.S.C. 3003, and the implementing regulations, 43 CFR 10.10.

Dated: December 11, 2025.
Melanie O'Brien,
Manager, National NAGPRA Program.

[FR Doc. 2025-23541 Filed 12-19-25; 8:45 am]

BILLING CODE 4312-52-P